FEDERAL MARITIME COMMISSION

Ocean Transportation Intermediary License Revocations

The Federal Maritime Commission hereby gives notice that the following Ocean Transportation Intermediary licenses have been revoked pursuant to section 19 of the Shipping Act of 1984 (46 U.S.C. app. 1718) and the regulations of the Commission pertaining to the licensing of Ocean Transportation Intermediaries, effective on the corresponding date shown below:

License Number: 2328NF.

Name: Ross Freight Company, Inc.

Address: 732 West 9th Street, Suite 206, San Pedro, CA 90731.

Date Revoked: June 6, 2002.

Reason: Failed to maintain valid bonds.

License Number: 3555N.

Name: Thomas Griffin International, Inc.

Address: 1411 N. Westshore Blvd., Suite 315, Tampa, FL 33607.

Date Revoked: May 2, 2002.

Reason: Failed to maintain a valid bond.

Ronald D. Murphy,
Deputy Director, Bureau of Consumer Complaints and Licensing.

[FR Doc. 02-17314 Filed 7-9-02; 8:45 am]

BILLING CODE 6730-01-P